DEPARTMENT OF EDUCATION

President's Advisory Commission on Asian Americans and Pacific Islanders

AGENCY: President's Advisory Commission on Asian Americans and Pacific Islanders, U.S. Department of Education.

ACTION: Announcement of an Open Meeting.

SUMMARY: This notice sets forth the schedule and agenda of the meeting of the President's Advisory Commission on Asian Americans and Pacific Islanders (Commission). The notice also describes the functions of the Commission. Notice of the meeting is required by § 10(a)(2) of the Federal Advisory Committee Act and is intended to notify the public of its opportunity to attend.

DATES: The AAPI Commission meeting will be held on

December 3, 2014 from 9:00-5:00 p.m. PT

December 4, 2014 from 9:00-5:00 p.m. PT

December 5, 2014 from 9:00-3:00 p.m. PT

ADDRESSES: Environmental Protection Agency, Conference Room Suite, Room 21DNSU, 1200 6th Avenue, Seattle, WA 98101.

FOR FURTHER INFORMATION CONTACT: Bessie Chan, White House Initiative on Asian Americans and Pacific Islanders, Potomac Center Plaza, 550 12th Street SW., Washington, DC 20202; telephone: 202-245-6418, fax: 202-245-7166.

SUPPLEMENTARY INFORMATION:

The AAPI Commission's Statutory Authority and Function: The President's Advisory Commission on Asian Americans and Pacific Islanders is established under Executive Order 13515, dated October 14, 2009 and subsequently continued and amended by Executive Order 13585 and Executive Order 13652. The Commission is governed by the provisions of the Federal Advisory Committee Act (FACA), (P.L 92-463; as amended, 5 U.S.C.A. app.) which sets forth standards for the formation and use of advisory committees. According to Executive Order 13515, the Commission shall provide advice to the President, through the Secretary of Education and a senior official to be designated by the President, on: (i) The development, monitoring, and coordination of executive branch efforts to improve the quality of life of Asian Americans and Pacific Islanders (AAPIs) through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

Members of the public who would like to attend the meetings on December 3, 2014, December 4, 2014, and December 5, 2014 should R.S.V.P. to Bessie Chan via email at Bessie.Chan@ed.gov no later than November 19, 2014 at 3:00 p.m. ET.

Submission of Written Comments: Due to time constraints, there will not be a public comment period at these meetings. However, individuals wishing to provide comments to the White House Initiative on Asian Americans and Pacific Islanders, the Commission, or the Regional Interagency Working Group may contact Bessie Chan via email at Bessie.Chan@ed.gov. Please include in the subject line the wording, “Public Comment.”

Meeting Agenda

The purpose of this meeting is to discuss current and future endeavors of the White House Initiative on Asian Americans and Pacific Islanders and key issues and concerns impacting the AAPI community; review the work of the White House Initiative on Asian Americans and Pacific Islanders; determine key strategies to help meet the Commission's charge as outlined in Executive Order 13515; determine regional engagement strategies and deliverables with the Regional Interagency Working Group; and plan collaborative events and activities with the Regional Interagency Working Group.

Access to Records of the Meeting: The Department will post the official report of the meeting on the AAPI Commission Web site not later than 90 days after the meeting. Pursuant to the FACA, the public may also inspect the materials at 550 12th Street SW., Washington, DC 20202 by emailing Bessie.Chan@ed.gov or by calling (202) 245-6418 to schedule an appointment.

Reasonable Accommodations: The meeting site is accessible to individuals with disabilities. Individuals who will need accommodations for a disability in order to attend the meetings (e.g., interpreting services, assistive listening devices, or material in alternative format) should notify Bessie Chan at 202-245-6418, no later than November 19, 2014. We will attempt to meet requests for accommodations after this date, but cannot guarantee their availability.

Authority: Executive Order No. 13515, as amended by Executive Orders 13585 and 13652.

Ted Mitchell,
Under Secretary, U.S. Department of Education.

[FR Doc. 2014-26940 Filed 11-13-14; 8:45 am]

BILLING CODE P